DEPARTMENT OF HEALTH AND HUMAN SERVICES

Administration for Children and Families

Submission for OMB Review; Comment Request

Title: Application and Program Reporting Requirements for Children's Justice Act Grants.

OMB No.: 0980-0196.

Description: The Program Instruction, prepared in response to the Children's Justice Act and authorized by Title I of the Child Abuse Prevention and Treatment Act (CAPTA) (as amended) and in the process of reauthorization, provides direction to States and Territories to accomplish the purposes of assisting States in developing, establishing, and operating programs designed to improve: (1) The handling of child abuse and neglect cases, particularly child sexual abuse and exploitation, in a manner which limits additional trauma to the child victim; (2) the handling of cases of suspected child abuse or neglect related fatalities; and (3) the investigation and prosecution of cases of child abuse and neglect, particularly child sexual abuse and exploitation. This Program Instruction contains information collection requirements that are found in Public Law 104-235 at Sections 107(b), 107(d), and pursuant to receiving a grant award. The information being collected is required by statute to be submitted pursuant to receiving a grant award.

The information submitted will be used by the agency to ensure compliance with the statute; to monitor, evaluate, and measure grantee achievements in addressing the investigation and prosecution of child abuse and neglect; and to report to Congress.

Respondents: State Governments.

Annual Burden Estimates

Instrument | Number of respondents | Number of responses per respondent | Average burden hours per response | Total burden hours
Application | 52 | 1 | 40 | 2080
Annual Performance Report | 52 | 1 | 20 | 1040
Estimated total annual burden hours |  |  |  | 3,120

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 6, 2002.
Bob Sargis,
Reports Clearance Officer.

[FR Doc. 02-3747 Filed 2-14-02; 8:45 am]

BILLING CODE 4184-01-M